OFFICE OF THE UNITED STATES TRADE REPRESENTATIVE

Notice of Product Exclusion Extensions: China's Acts, Policies, and Practices Related to Technology Transfer, Intellectual Property, and Innovation

AGENCY: Office of the United States Trade Representative (USTR).

ACTION: Notice.

SUMMARY: In prior notices, the U.S. Trade Representative modified the actions in the Section 301 investigation of China's acts, policies, and practices related to technology transfer, intellectual property, and innovation by excluding from additional duties certain products of China. This notice announces the U.S. Trade Representative's determination to extend the current exclusions.

DATES: The modifications announced in the annexes to this notice extend the exclusions through August 31, 2025.

FOR FURTHER INFORMATION CONTACT: For general questions about this notice, contact Senior Associate General Counsel Philip Butler at 202.395.5725. For specific questions on customs classification or implementation of the product exclusions, contact traderemedy@cbp.dhs.gov.

SUPPLEMENTARY INFORMATION:

A. Background

On December 29, 2023, USTR invited the public to submit comments on whether to extend 352 previously reinstated exclusions and 77 COVID-related exclusions. See 88 FR 90225 (December 29, 2023) (the December 29 notice). On May 30, 2024, USTR announced the extension of 164 of these exclusions. See 89 FR 46948 (May 30, 2024) (the May 30 notice).

In connection with the 4-year review, on September 18, 2024, USTR announced 14 exclusions covering certain solar manufacturing equipment. See 89 FR 76581 (September 18, 2024). For additional background on the four-year review, see previous notices issued in the investigation, including 89 FR 76581.

B. Determination To Extend Exclusions

Based on continued consideration of the comments received in response to the December 29 notice and the comments received in the 4-year review, the U.S. Trade Representative has determined that a 3-month extension of the 164 exclusions extended in May 2024 and the 14 exclusions granted in September 2024 is appropriate. The U.S. Trade Representative's decision to extend these exclusions takes into account public comments previously provided, previous advice of the advisory committees, and the interagency Section 301 Committee.

As provided in the May 30 notice and the September 18 notice, the exclusion extensions in the annexes to this notice are available for any product that meets the description in the product exclusion. Further, the scope of each exclusion is governed by the scope of the ten-digit Harmonized Tariff Schedule of the United States (HTSUS) statistical reporting numbers and product descriptions set forth in U.S. note U.S. notes 20(vvv)(i), 20(vvv)(ii), 20(vvv)(iii), and 20(vvv)(iv) and 20(www) to subchapter III of chapter 99 of the HTSUS. U.S. Customs and Border Protection will issue instructions on entry guidance and implementation.

The U.S. Trade Representative may continue to consider further extensions and/or additional modifications as appropriate.

Annex A

The U.S. Trade Representative has determined to extend all exclusions previously extended under heading 9903.88.69 and U.S. notes 20(vvv)(i), 20(vvv)(ii), 20(vvv)(iii), and 20(vvv)(iv) to subchapter III of chapter 99 of the HTSUS. See 89 FR 46948 (May 30, 2024). The extension is effective with respect to goods entered for consumption, or withdrawn from warehouse for consumption, on or after 12:01 a.m. eastern standard time on June 1, 2025, and before 11:59 p.m. eastern daylight time on August 31, 2025. Effective on June 1, 2025, the article description of heading 9903.88.69 of the HTSUS is modified by deleting “May 31, 2025,” and by inserting “August 31, 2025,” in lieu thereof.

Annex B

The U.S. Trade Representative has determined to extend all exclusions under heading 9903.88.70 and U.S. note 20(www) to subchapter III of chapter 99 of the HTSUS. See 89 FR 76581 (September 18, 2024). The extension is effective with respect to goods entered for consumption, or withdrawn from warehouse for consumption, on or after 12:01 a.m. eastern standard time on June 1, 2025, and before 11:59 p.m. eastern daylight time on August 31, 2025. Effective on June 1, 2025, the article description of heading 9903.88.70 of the HTSUS is modified by deleting “June 1, 2025,” and by inserting “September 1, 2025,” in lieu thereof.

Jennifer Thornton,
General Counsel, Office of the United States Trade Representative.

[FR Doc. 2025-10203 Filed 6-4-25; 8:45 am]

BILLING CODE 3390-F4-P